DEPARTMENT OF JUSTICE

Antitrust Division

Notice Pursuant to the National Cooperative Research and Production Act of 1993—Information Warfare Research Project Consortium

Notice is hereby given that, on October 16, 2019, pursuant to Section 6(a) of the National Cooperative Research and Production Act of 1993, 15 U.S.C. 4301 et seq. (“the Act”), Information Warfare Research Project Consortium (“IWRP”) has filed written notifications simultaneously with the Attorney General and the Federal Trade Commission disclosing changes in its membership. The notifications were filed for the purpose of extending the Act's provisions limiting the recovery of antitrust plaintiffs to actual damages under specified circumstances. Specifically, ActioNet, Inc., Vienna, VA; Alchemy Global Networks, LLC, Nicholasville, KY; AM Pierce & Associates, Inc., California, MD; Avaya Federal Solutions (Avaya), Fairfax, VA; BEAT LLC (Business Enabled Acquisition and Technology), San Antonio, TX; CalQLogic, Inc., Los Angeles, CA; Capstone Corporation, Alexandria, VA; CDIT LLC, Slidell, LA; Charles River Analytics, Inc., Cambridge, MA; Cohere Solutions, LLC, Reston, VA; CommIT Enterprises, Inc., Hughesville, MD; Cubic Defense Applications, Inc. (Cubic Mission Solutions Secure Comms group), San Diego, CA; Definitive Logic Corporation, Arlington, VA; f5 Government Solutions, LLC, Reston, VA; GBL Systems Corporation, Camarillo, CA; GIRD Systems, Inc., Cincinnati, OH; Global Air Logistics and Training, Inc., Del Mar, CA; GSD, LLC, Williamsburg, VA; GuidePoint Security Government Solutions, Herndon, VA; Guidon Technology Solutions, Inc., Issaquah, WA; HaloTech Solutions LLC, Columbia, MD; Heilig Defense Inc., Arlington, VA; i3Tech Data Solutions, Inc., El Dorado Hills, CA; Insight Public Sector, Tempe, AZ; Intercax, LLC, Dunwoody, GA; Ironclad Technology Services LLC, Virginia Beach, VA; Jireh Consulting LLC, Suffolk, VA; Juniper Networks (US) Inc., Sunnyvale, CA; KeyLogic Systems, LLC, Morgantown, WV; MartinFederal Consulting, LLC, Huntsville, AL; Moebius Solutions, Inc., San Diego, CA; Morgan 6, LLC, Charleston, SC; Na Ali'i Consulting & Sales, LLC, Honolulu, HI; NanoVMs, Inc., San Francisco, CA; Netsync Network Solutions, Inc., Houston, TX; Noblis, Inc., Reston, VA; Orbis Sibro, Inc., Charleston, SC; Owl Cyber Defense, Danbury, CT; Persistent Systems, LLC, New York, NY; r4 Technologies, Inc., Ridgefield, CT; Recogniti LLP, Hagerstown, MD; Robotic Research, LLC, Gaithersburg, MD; Rocket Technology, Inc., Richmond, VA; Rudram Engineering, Inc., Rockledge, FL; Sabre Systems, Inc., Warrington, PA; SafeNet Assured Technologies LLC, Abingdon, MD; Semantic AI Inc., San Diego, CA; Sher Industries LLC, Daniel Island, SC; SitScape, Inc., Vienna, VA; Smart Security Systems LLC dba Bear Systems, Boulder, CO; Southern Methodist University, Dallas, TX; SRC, Inc., N. Syracuse, NY; STEALTHbits Technologies, Inc., Hawthorne, NJ; T3W Business Solutions, San Diego, CA; Tactical Edge, Inc., San Diego, CA; TDI Technologies, Inc., King of Prussia, PA; Technica Corporation, Dulles, VA; Technology Solutions Provider Inc. (DBA TSPi), Reston, VA; Telesto Group LLC, West Palm Beach, FL; The Marlin Alliance, San Diego, CA; Thinklogical, LLC, Milford, CT; Trex Enterprises Corporation, San Diego, CA; TVAR Solutions, LLC, McLean, VA; UEC Electronics, LLC, Hanahan, SC; Vanguard LED Displays, Inc., Lakeland, FL; Vertosoft LLC, Leesburg, VA; and Wireless Research Center of North Carolina, Wake Forest, NC, have been added as parties to this venture.

Also, Alpha Proto, Casselberry, FL; and Presidio Networked Solutions LLC, Fulton, MD, have withdrawn as parties to this venture.

No other changes have been made in either the membership or planned activity of the group research project. Membership in this group research project remains open, and IWRP intends to file additional written notifications disclosing all changes in membership.

On October 15, 2018, IWRP filed its original notification pursuant to Section 6(a) of the Act. The Department of Justice published a notice in the Federal Register pursuant to Section 6(b) of the Act on October 23, 2018 (83 FR 53499).

The last notification was filed with the Department on July 12, 2019. A notice was published in the Federal Register pursuant to Section 6(b) of the Act on August 1, 2019 (84 FR 37679).

Suzanne Morris,
Chief, Premerger and Division Statistics Unit, Antitrust Division.

[FR Doc. 2019-23631 Filed 10-29-19; 8:45 am]

BILLING CODE 4410-11-P